DEPARTMENT OF HOUSING AND URBAN DEVELOPMENT

[Docket No. (FR-5478-N-06)]

Privacy Act of 1974; Notification To Delete and Create a New System of Records, “HUD/FHA Lender Approval Files” to New Lender Electronic Assessment Portal

AGENCY: Office of the Chief Information Officer, HUD.

ACTION: Notification to Delete and Create a New System of Records.

SUMMARY: HUD is providing public notice that it proposes to design a new system, the Lender Electronic Assessment Portal (LEAP), and revise and delete information published in the Federal Register (FR) about one of its existing Privacy Act system of records. The creation of the new system is to facilitate migration and streamline efforts for record collection activities under the Federal Housing Administration (FHA) lender approval and recertification process. The new system LEAP will take full custody over the records currently maintained by HUD's Lender Approval Files System of Records Notice (SORN) and will fully automate the manual records process for these records. The HUD/FHA Lender Approval Files SORN contains information pertaining to individuals who are principals or officers of financial institutions seeking approval or approved to originate, service, or hold FHA single family or multifamily insured mortgages, or Title I and Title II insured loans. Fully automating and streamlining HUD's lender approval and recertification process enables HUD's Office of FHA to efficiently perform the workflow operation and the assessments required to ascertain a financial institution's eligibility and/or qualification to participating under a FHA-insured mortgage, or Title I and Title II insured loans. Subsequent changes that have occurred for the previously published notice involve: Changes to the Categories of Individuals Covered by the System, Categories of Records in the System, Purposes of the System, and Routine Uses of Records Maintained in the System, Including Categories of Users and Purposes of Such Users. This notice serves to update, replace and delete the prior SORN reference published in the Federal Register on August 22, 1999 for HUD/FHA Lender Approval Files.

DATES: Effective Date: This proposal shall become effective, without further notice, December 16, 2011, unless comments are received during or before this period which would result in a contrary determination.

Comments Due Date: December 16, 2011.

ADDRESSES: Interested persons are invited to submit comments regarding this notice to the Rules Docket Clerk, Office of General Counsel, Department of Housing and Urban Development, 451 Seventh Street SW., Room 10276, Washington, DC 20410. Communications should refer to the above docket number and title. FAX comments are not acceptable. A copy of each communication submitted will be available for public inspection and copying between 8 a.m. and 5 p.m., weekdays at the above address.

FOR FURTHER INFORMATION CONTACT: For Privacy Act inquiries contact Harold Williams, Acting Departmental Privacy Act Officer, Department of Housing and Urban Development, 451 Seventh Street SW., Washington, DC 20410, telephone number (202) 402-8087. Regarding records maintained in Washington, DC 20410 for the Office of Housing, contact the Director, Lender Approval and Recertification Division, Department of Housing and Urban Development, 451 Seventh Street SW., Washington, DC 20410, telephone number (202) 402-8214. [The above are not toll free numbers.] A telecommunications device for hearing- and speech-impaired persons (TTY) is available at 1-(800) 877-8339 (Federal Information Relay Services).

SUPPLEMENTARY INFORMATION: Title 5 U.S.C. 552a(e)(4) and (11) provides that the public be afforded a 30-day period in which to comment on the amended record system. The system report was submitted to the Office of Management and Budget (OMB), the Senate Committee on Homeland Security and Governmental Affairs and the House Committee on Government Reform pursuant to Paragraph 4c of Appendix l to OMB Circular No. A-130, “Federal Agencies Responsibilities for Maintaining Records About Individuals,” dated July 25, 1993 (58 FR 36075, July 2, 1993).

Accordingly, this notice deletes prior publication for the HUD/FHA Lender Approval Files SORN and creates a new notice for the HUD's FHA Housing program administrators and accompanying information to be submitted and accessed in the management of HUD's FHA Housing programs by the Office of Housing.

Authority: 5 U.S.C. 552a; 88 Stat. 1896; 42 U.S.C. 3535(d).

Dated: November 8, 2011.
Jerry E. Williams,
Chief Information Officer.

HUD/SF01.2502

SYSTEM NAME:

Lender Electronic Assessment Portal (LEAP/P278), formerly “HUD/FHA Lender Approval Files.”

SYSTEM LOCATION:

LEAP is hosted on HUD servers located in Charleston, West Virginia.

CATEGORIES OF INDIVIDUALS COVERED BY THE SYSTEM:

Individuals covered by the system are principals or officers (i.e. director's managers and owners) of financial institutions that seek approval or are approved to originate service or hold single family or multifamily FHA-insured mortgages, or Title I and Title II insured loans.

CATEGORIES OF RECORDS IN THE SYSTEM:

All documents and related data required for a lender's application; including entity-level information such as lender institution name and address, business email address, and telephone number, tax identification number, corporate financial and organizational document, licenses and corporate credit reports. Other LEAP information include individual personal information on lending institution officials such as names, social security numbers, credit reports; background investigation documents types, excluded party report and individual resumes, and financial statements.

AUTHORITY FOR MAINTENANCE OF THE SYSTEM:

Title I and Title II of the National Housing Act; 12 U.S.C. 1703, 1709 and 1751b; 42 U.S.C. 1436a and 3535(d).

PURPOSES:

To obtain information from lenders and the principals or officers of financial institutions seeking approval or approved to originate, service or hold single family or multifamily FHA-insured mortgages, or Title I and Title II insured loans. The information in this record system enables HUD/FHA to process applications received for (1) Suitability and verification purposes; (2) to ensure conformance to FHA Title I and Title II authorities; (3) to identify specific individuals and roles at lending institutions, permitting correspondence to be addressed to individuals rather than job titles.

Currently, lenders seeking authority to issue FHA-insured mortgages or Title I and Title insured loans must manually submit a paper-based application package, which is analyzed and reviewed by HUD staff. This review ensures the applicant's capability to adhere to the requirements of FHA's mortgage insurance programs. LEAP has been developed to streamline the application process by migrating to electronic transmission of the requisite package.

ROUTINE USES OF RECORDS MAINTAINED IN THE SYSTEM, INCLUDING CATEGORIES OF USERS AND THE PURPOSES OF SUCH USES:

In addition to those disclosures generally permitted under 5 U.S.C. 552a(b) of the Privacy Act, other routine uses include:

(a.) To the FBI during the course of investigating possible fraud in the FHA mortgage insurance, underwriting, insuring or monitoring process, to the extent necessary to obtain information pertinent to the investigation,

(b.) To the Department of Justice (DOJ) when seeking legal advice or for use in any proceeding, or in preparation for any proceeding, when HUD or any component thereof discloses information to DOJ during the course of an investigation to the extent necessary to obtain information pertinent to the investigation under the FHA Mortgage Insurance Program,

(c.) To HUD contractors, lenders and financial institutions for the purpose of conducting oversight and monitoring of program operations to determine compliance with applicable laws and regulations, and financial reporting requirements,

(d.) Additional Disclosure for Purposes of Facilitating Responses and Remediation Efforts in the Event of a Data Breach. A record from a system of records maintained by HUD may be disclosed to appropriate agencies, entities, and persons when:

(1.) The Department suspects or has confirmed that the security or confidentiality of information in a system of records has been compromised,

(2.) the Department has determined that as a result of the suspected or confirmed compromise there is a risk of harm to economic or property interests, identity theft or fraud, or harm to the security or integrity of this system or other systems or programs (whether maintained by HUD or another agency or entity) that rely upon the compromised information,

(3.) the disclosure made to such agencies, entities, and persons is reasonably necessary to assist in connection with the HUD's efforts to respond to the suspected or confirmed compromise and prevent, minimize, or remedy such harm, and

(e.) To a commercial or consumer reporting agency to use in obtaining credit reports on individuals and credit and background reports on entities.

POLICIES AND PRACTICES FOR STORING, RETRIEVING, ACCESSING, RETAINING, AND DISPOSING OF RECORDS IN THE SYSTEM:

Storage:

Automated records are stored on magnetic tape/disc/drum and will be maintained on HUD secure servers. Paper records will no longer collected or used by the system.

Retrievability:

Records are retrieved by name, social security number or other identification number.

Safeguards:

Automated records are maintained in secured areas. Access is limited to authorized personnel with a need-to-know. Paper records are no longer used by the system.

Retention and Disposal:

The electronic records in LEAP will be maintained in accordance with Schedule 20 of the NARA General Records Schedule. By reference, retention policies will also mirror Appendix 20 (“Single Family Home Mortgage Program”) of HUD Handbook 2225.6 REV-1 CHG-53.

SYSTEM MANAGER(s) AND ADDRESS:

Director, Lender Approval and Recertification Division, Department of Housing and Urban Development, 451 Seventh Street SW., Washington, DC 20410. Notification procedure: For information, assistance, or inquiry about existence of records, contact the Acting Departmental Privacy Act Officer identified above.

NOTIFICATION AND ACCESS PROCEDURES:

Include the following standard language: “For information, assistance, or inquiry about the existence of records, contact Harold Williams, Acting Departmental Privacy Act Officer at the Department of Housing and Urban Development, 451 Seventh Street SW., Washington, DC 20410, telephone number (202) 402-8087. Written requests must include the full name, social security number, date of birth, current address, and telephone number of the individual making the request.”

CONTESTING RECORD PROCEDURES:

Include the following standard language: Procedures for the amendment or correction of records, and for applicants who want to appeal initial agency determinations appear in 24 CFR part 16. If additional information or assistance is needed, it may be obtained by contacting:

(i) In relation to contesting contents of records, the Acting Departmental Privacy Act Officer at HUD, 451 Seventh Street SW., Room 4178, Washington, DC 20410; and,

(ii) In relation to appeals of initial denials, the HUD Departmental Privacy Appeals Officer, Office of General Counsel, HUD, 451 Seventh Street SW., Washington, DC 20410.

RECORD SOURCE CATEGORIES:

Source information is received from financial institution principals, and can include corporate documents like articles of incorporation and financial statements.

EXEMPTION:

None.

[FR Doc. 2011-29522 Filed 11-15-11; 8:45 am]

BILLING CODE 4210-67-P